DEPARTMENT OF EDUCATION

Office of Special Education and Rehabilitative Services; Overview Information; Technology and Media Services for Individuals With Disabilities—The Accessible Instructional Materials (AIM) Personnel Development Center; Notice Inviting Applications for New Awards for Fiscal Year (FY) 2011

Catalog of Federal Domestic Assistance (CFDA) Number: 84.327W.

Dates: Applications Available: September 28, 2010.

Deadline for Transmittal of Applications: November 29, 2010.

Deadline for Intergovernmental Review: January 26, 2011.

Full Text of Announcement

I. Funding Opportunity Description

Purpose of Program: The purposes of the Technology and Media Services for Individuals with Disabilities program is to: (1) Improve results for children with disabilities by promoting the development, demonstration, and use of technology; (2) support educational media services activities designed to be of educational value in the classroom setting for children with disabilities; and (3) provide support for captioning and video description of educational materials that are appropriate for use in the classroom setting, including television programs, videos, and programs and materials associated with new and emerging technologies, such as CDs, DVDs, video streaming, and other forms of multimedia.

Priority: In accordance with 34 CFR 75.105(b)(2)(v), this priority is from allowable activities specified in the statute (see sections 674 and 681(d) of the Individuals with Disabilities Education Act (IDEA), 20 U.S.C. 1400 et seq.).

Absolute Priority: For FY 2011 and any subsequent year in which we make awards from the list of unfunded applicants from this competition, this priority is an absolute priority. Under 34 CFR 75.105(c)(3) we consider only applications that meet this priority.

This priority is:

Technology and Media Services for Individuals with Disabilities—The Accessible Instructional Materials (AIM) Personnel Development Center.

Background: IDEA requires States to provide a free appropriate public education (FAPE) to all children with disabilities. FAPE includes the provision of educational materials in accessible formats for children with disabilities eligible for services under Part B of IDEA, including children with visual impairments and with other print disabilities (section 674(e)(3)(A) of IDEA).

The 2004 amendments to IDEA added provisions to improve the timely production and dissemination of educational materials in accessible formats for students who are blind or who have print disabilities (see sections 612(a)(23) and 674(e) of IDEA). These provisions include the following:

• States must adopt the National Instructional Materials Accessibility Standard (NIMAS) (section 612(a)(23) of IDEA). NIMAS is a technical standard used by publishers to produce source files that may be used to develop multiple specialized formats (such as Braille or audio books) for students with print disabilities.

• The Department was directed to establish the National Instructional Materials Access Center (NIMAC), a repository for NIMAS files (section 674(e) of IDEA). For more information about NIMAC, go to http://www.nimac.us.

• States that choose to coordinate with NIMAC must require publishers to submit NIMAS files to NIMAC as part of State textbook purchase agreements (section 612(a)(23) of IDEA).

These provisions were designed to ensure that State educational agencies (SEAs) and local educational agencies (LEAs) meet the educational needs of all students with disabilities by providing appropriate instructional materials in accessible formats. A major barrier to the implementation of the NIMAS provisions is that some children with disabilities are ineligible to use materials rendered from NIMAC files. The files obtained from NIMAC may only be used for children with disabilities who are eligible under IDEA and who meet the definition of “blind or other persons with print disabilities” under the Act to Provide Books for the Adult Blind (2 U.S.C. 135a), which establishes eligibility criteria for individuals served under the Library of Congress (LOC) regulations (36 CFR 701.6(b)(1)). These eligibility criteria cover individuals who are blind, have other visual disabilities, are unable to read or use standard print as a result of physical limitations, or have reading disabilities resulting from organic dysfunction. The regulations implementing Part B of IDEA require SEAs and LEAs to ensure that children with disabilities who need instructional materials in accessible formats, but are not included under the LOC definition of blind or other persons with print disabilities or who need materials that cannot be produced from NIMAS files obtained through NIMAC, receive those instructional materials in a timely manner (34 CFR 300.172(b)(3) and 300.210(b)(3)). SEAs have addressed these requirements in the systems they developed for producing, accessing, and distributing AIM. However, teachers and administrators in LEAs may be reluctant to provide AIM to students due to a lack of information and understanding about eligibility requirements, and due to limited knowledge of where, and how, to obtain AIM for students who require special formats (Etemad & Burdette, 2009).

In response to concerns from SEAs and LEAs regarding the complexity and limitations of the provisions relating to NIMAS that were added to IDEA in 2004 (the NIMAS provisions) and the difficulties SEAs and LEAs were having as they began to implement these provisions, the Office of Special Education Programs (OSEP) awarded two 18-month grants to support States, the outlying areas, and freely associated States implement the NIMAS provisions. These grants included the Pacific Consortium for Instructional Materials Accessibility Project (Pacific CIMAP) and the AIM Consortium. The Pacific CIMAP facilitated the collaborative commitment of the six Pacific Basin entities to build local and regional capacity for the implementation of the NIMAS and NIMAC requirements. The 15-State AIM Consortium along with the Center for Applied Special Technology (CAST) worked together to develop State systems for increasing the timely provision of AIM for students with print disabilities, and ensure that those systems for identifying, acquiring, and using AIM employed high-quality procedures and practices.

Based on the collective needs and challenging experiences of SEAs in implementing the NIMAS provisions, the consortia's members developed products, training modules, and materials. These resources are available to all States, the outlying areas, and freely associated States on the consortia's respective Web sites: http://www.guamcedders.org/main/index.php?pg=pacific_cimap and http://www.cast.org/research/projects/AIM.html.

While the Pacific CIMAP and the AIM Consortium produced effective resources, product usability is more effective when personnel development is provided in conjunction with product availability. Both the Pacific CIMAP and the AIM Consortium awards were 18-month awards. Most of the time and resources of these projects focused on determining the needs of the States and developing the products and resources used in the implementation of the NIMAS provisions. States, including those that were part of the two consortia, continue to face the significant challenge of ensuring that all staff in the States receive training that is delivered with consistency and fidelity. (Etemad & Burdette, 2009).

SEAs are responsible for supporting LEAs on implementing NIMAS provisions. However, many SEAs lack the expertise and resources to effectively train LEA personnel on how to use the products, training modules, and materials developed by the two consortia or by other OSEP-funded NIMAS-related projects (i.e., NIMAC; Recording for the Blind and Dyslexic (RFB&D); the National Instructional Materials Accessibility Standard Center (NIMAS Center); the AIM Center; and Bookshare for Education at Bookshare (B4E)). Therefore, OSEP is establishing a priority—the AIM Personnel Development Center—to improve State capacity for training personnel at the LEA level to ensure the effective delivery of AIM to children with disabilities who have visual impairments or print disabilities, including children who are not included under the LOC definition of blind or other persons with print disabilities and children who need AIM materials that cannot be produced from NIMAS files obtained through NIMAC.

Priority: The purpose of this priority is to fund a cooperative agreement to support the establishment and operation of an AIM Personnel Development Center (Center). The Center will support and work with 25 States to: (1) Develop and implement LEA personnel development plans for effectively training LEA staff on the eligibility requirements regarding AIM and on the use of AIM products, training modules, and materials currently available through OSEP-funded NIMAS-related projects; and (2) recruit and select qualified personnel who will provide in-service training to LEA staff on the effective use of these resources. For purposes of this priority, the term “State” refers to a State, outlying area, or freely associated State.

To be considered for funding under this absolute priority, applicants must meet the application requirements contained in this priority. The project funded under this absolute priority also must meet the programmatic and administrative requirements specified in the priority.

Application Requirements. An applicant must include in its application:

(a) A logic model that depicts, at a minimum, the goals, activities, outputs, and outcomes of the proposed project. A logic model communicates how a project will achieve its outcomes and provides a framework for both the formative and summative evaluations of the project.

Note: The following Web sites provide more information on logic models: http://www.researchutilization.org/matrix/logicmodel_resource3c.html and www.tadnet.org/model_and_performance.

(b) A plan to implement the activities described in the Project Activities section of this priority.

(c) A plan, linked to the proposed project's logic model, for a formative evaluation of the proposed project's activities. The plan must describe how the formative evaluation will use clear performance objectives to ensure continuous improvement in the operation of the Center, including objective measures of progress in implementing the activities of the Center and ensuring the quality of products and services.

(d) A plan for recruiting and selecting 25 States to participate in the activities of the Center. The selection process must be transparent and done in conjunction with OSEP.

(e) A plan for, and description of, how the Center will incorporate the work of, and resources developed from, OSEP-funded NIMAS-related projects in the work of the Center;

(f) A budget for a summative evaluation to be conducted by an independent third party.

(g) A budget for attendance at the following:

(1) A one and one half-day kick-off meeting to be held in Washington, DC, within four weeks after receipt of the award, and an annual planning meeting held in Washington, DC, with the OSEP Project Officer during each subsequent year of the project period.

(2) A two-day Technical Assistance and Dissemination Conference in Washington, DC, during each year of the project period.

(3) A two-day Technology Project Directors' Conference in Washington, DC, during each year of the project period.

(4) A three-day Project Directors' Conference in Washington, DC, during each year of the project period.

(5) A two-day State Representative meeting in Washington, DC, with OSEP staff in the second year of the project period. The budget for attendance at this meeting must include travel and per diem support for one representative from each selected State to attend the meeting.

Project Activities. To meet the requirements of this priority, the Center, at a minimum, must conduct the following activities:

(a) Identify and describe currently available AIM training products, materials, modules, and other training resources that are produced by OSEP-funded projects related to the implementation of the NIMAS provisions in the 2004 amendments of IDEA.

(b) Identify and describe currently available AIM training products, materials, modules, and other training resources that are produced by publishers, universities, non-profit organizations, other federally funded projects, and other NIMAS-related entities.

(c) Develop, and make publicly available through the Center's Web site, an electronic database of all currently available AIM products that are identified and described pursuant to paragraphs (a) and (b) of this section.

(d) Recruit and select 25 States in accordance with the plan described in response to paragraph (d) of the Application Requirements of this priority.

(e) Work with the 25 States selected under paragraph (d) of this section to determine their LEA personnel development needs related to each State's system for providing AIM in a timely manner, and to develop their respective LEA personnel development plans. Support the participating States in developing and implementing their personnel development plans. The personnel development plans must include in-service training for LEA level staff on—

(1) How to determine if a child has a print disability and will benefit from AIM;

(2) Eligibility requirements for children with disabilities under IDEA and the LOC regulations;

(3) How to determine the appropriate accessible formats needed for a child who requires AIM;

(4) How to obtain AIM; and

(5) How to effectively use available resources with fidelity, including how to incorporate the use of AIM products, training modules, and materials made available through OSEP-funded NIMAS-related projects and other resources;

(f) Recruit, select, and train personnel from each of the 25 participating States to provide in-service training to LEA staff in their respective States.

(g) Maintain a Web site that meets government or industry-recognized standards for accessibility and that links to the Web site operated by the Technical Assistance Coordination Center (TACC).

(h) Prepare and disseminate reports, documents, and other materials on the Center's training activities.

(i) Maintain ongoing communication with the OSEP Project Officer through bi-monthly phone conversations and e-mail communication.

(j) Conduct a formative evaluation in accordance with the plan described in response to paragraph (c) of the Application Requirements in this priority.

References:

Etemad, P. & Burdette, P. (2009). The National Materials Accessibility Standard (NIMAS): State Implementation Update. Project Forum: Alexandria, VA.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreement.

Estimated Available Funds: The Administration has requested $41,223,000 for the Technology and Media Services for Individuals with Disabilities program for FY 2011, of which we intend to use an estimated $3,000,000 for the competition announced in this notice. The actual level of funding, if any, depends on final congressional action. However, we are inviting applications to allow enough time to complete the grant process if Congress appropriates funds for this program.

Contingent upon the availability of funds and the quality of applications, we may make additional awards in FY 2012 from this competition.

Maximum Award: We will reject any application that proposes a budget exceeding $3,000,000 for a single budget period of 12 months. The Assistant Secretary for Special Education and Rehabilitative Services may change the maximum amount through a notice published in the Federal Register.

Estimated Number of Awards: 1.

Note: The Department is not bound by any estimates in this notice.

Project Period: Up to 24 months.

III. Eligibility Information

1. Eligible Applicants: SEAs; IHEs; other public agencies; private nonprofit organizations; outlying areas; freely associated States; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this competition as follows: CFDA number 84.327W.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit; or if you apply other standards and exceed the equivalent of the page limit.

3. Submission Dates and Times:

Applications Available: September 28, 2010.

Deadline for Transmittal of Applications: November 29, 2010.

Applications for grants under this competition may be submitted electronically using the Electronic Grant Application System (e-Application) accessible through the Department's e-Grants site, or in paper format by mail or hand delivery. For information (including dates and times) about how to submit your application electronically, or in paper format by mail or hand delivery, please refer to section IV.7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: January 26, 2011.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this competition may be submitted electronically or in paper format by mail or hand delivery.

a. Electronic Submission of Applications.

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.327W) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.327W) 550 12th Street, SW., Room 7041, Potomac Center Plaza, Washington, DC 20202-4260.

The Application Control Center accepts hand deliveries daily between 8:00 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this program are from 34 CFR 75.210 and are listed in the application package.

2. Review and Selection Process: In the past, the Department has had difficulty finding peer reviewers for certain competitions, because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects are of high-quality, are relevant to improving outcomes of children with disabilities, and contribute to improving outcomes for children with disabilities. We will collect data on these measures from the projects funded under this competition.

Grantees will be required to report information on their projects' performance in their annual performance reports to the Department (34 CFR 75.590).

VII. Agency Contact

For Further Information Contact: Glinda Hill, U.S. Department of Education, 400 Maryland Avenue, SW., Room 4063, Potomac Center Plaza (PCP), Washington, DC 20202-2550. Telephone: (202) 245-7376.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: September 23, 2010.
Alexa Posny,
Assistant Secretary for Special Education and Rehabilitative Services.

[FR Doc. 2010-24337 Filed 9-27-10; 8:45 am]

BILLING CODE 4000-01-P